Title 3—

The President

Proclamation 8360 of April 9, 2009

National Former Prisoner of War Recognition Day, 2009

By the President of the United States of America

A Proclamation

American prisoners of war exemplify the courage and sacrifice that define our men and women in uniform. These brave warriors have paid a massive share of the costs of freedom, and our Nation will be forever in their debt. Today we honor all prisoners of war by recognizing the tremendous sacrifices made and the hardships endured by those who fight for our freedom.

American prisoners of war have experienced extreme conditions across the world and many have made the ultimate sacrifice. Sixty-seven years ago, in the midst of World War II, nearly 12,000 Americans and 76,000 Filipinos were captured while defending positions on the Bataan Peninsula in the Philippines. As prisoners of war, they endured the Bataan Death March, suffering starvation, torture, and unspeakable conditions. Thousands were randomly executed and many perished on this journey. During the Korean War, more than 1,600 Americans died under grave conditions at the Pyok Tong camp. In Vietnam’s Hoa Lo Prison—the infamous Hanoi Hilton—Americans endured torture and other forms of inhumane treatment.

There are countless tales of the bravery of American prisoners of war—of the burdens borne, of the acts of heroism. These individuals have made great sacrifices and have demonstrated an enduring faith in themselves and in the United States. Their commitment calls out to all Americans to live up to our Nation’s highest ideals and to serve our fellow citizens with equal selflessness and honor. We will never forget their sacrifices. Their spirit of service will inspire the American people for generations to come.

NOW, THEREFORE, I, BARACK OBAMA, President of the United States of America, by the authority vested in me by the Constitution and laws of the United States, do hereby proclaim April 9, 2009, as National Former Prisoner of War Recognition Day, and I urge all Americans to observe this day of remembrance with appropriate ceremonies and activities.

IN WITNESS WHEREOF, I have hereunto set my hand this ninth day of April, in the year of our Lord two thousand nine, and of the Independence of the United States of America the two hundred and thirty-third.

[FR Doc. E9-8703

Filed 4-13-09; 11:15 am]

Billing code 3195-W9-P